DEPARTMENT OF COMMERCE

International Trade Administration

Notice of Amendment for Certain Fall 2021 Scheduled Trade Missions

AGENCY: International Trade Administration, Department of Commerce.

ACTION: Notice.

SUMMARY: The United States Department of Commerce, International Trade Administration, is announcing amended dates and deadlines for submitting applications for several upcoming trade missions that were previously announced and published in the Federal Register:

• Cybersecurity Business Development Mission to Peru, Chile, and Uruguay, with an optional stop in Argentina, scheduled for March 1-5, and 8, 2021, postponed to March 30-April 8, 2022.

• Cybersecurity Business Development Mission to India, scheduled for November 8-12, 2021, postponed to May 2-5, 2022.

• Digital Transformation Business Development Mission to the Gulf Cooperation Council (GCC) region, scheduled from October 24-28, 2021, postponed to January 23-27, 2022. The optional UAE stop was also removed from the mission schedule.

• Trade Mission to the Caribbean Region in conjunction with the Trade Americas—Business Opportunities in the Caribbean Region Conference, scheduled from October 24-28, 2021, postponed to October 23-28, 2022.

SUPPLEMENTARY INFORMATION: Amendments to Revise Trade Mission Dates, and Deadline for Submitting Applications for Certain Fall 2021 Trade Missions.

Background

Cybersecurity Business Development Mission to Peru, Chile, and Uruguay, with an Optional Stop in Argentina

The United States Department of Commerce, International Trade Administration, is amending the Notice published at 86 FR 7705 (February 1, 2021), regarding the dates of ITA's planned Cybersecurity Business Development Mission to Peru, Chile, and Uruguay, with an optional stop in Argentina, which have been modified from October 18-22, and 25, 2021, to March 30-April 8, 2022. The Department has been closely monitoring COVID-19 developments and has determined that postponing the mission is the best decision for the health, safety, and welfare of the participants. The new deadline for applications has been extended to Friday, November 12, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Thursday, March 30, 2022 (Optional) | • (Morning) Trade Mission Participants Arrive in Buenos Aires, Argentina. • (Afternoon) Welcome and Country Briefing (Argentina). • Networking coffee at the Ambassador's residence (TBC).
Friday, April 1, 2022 (Optional) | • One-on-One business matchmaking appointments (GKS day).
Saturday, April 2, 2022 (Optional) | • Free time for Argentina optional stop participants or travel day to Peru.
Sunday, April 3, 2022 | • Trade Mission Participants Arrive in Lima, Peru.
Monday, April 4, 2022 | • Welcome and Country Briefing (Peru). • Presentations and/or cabinet/ministry meetings. • Networking Lunch. • One-on-One business matchmaking appointments. • Networking Reception at Ambassador's residence (TBC).
Tuesday, April 5, 2022 | • Travel to Santiago, Chile. • Welcome and Country Briefing (Chile). • Presentations.
Wednesday, April 6, 2022 | • One-on-One business matchmaking appointments. • Networking Lunch. • Cabinet/ministry meetings. • Networking Reception at Ambassador's residence (TBC).
Thursday, April 7, 2022 | • (Morning) Travel to Montevideo, Uruguay. • (Afternoon)Welcome and briefing. • Presentations by Uruguayan government entities.
Friday, April 8, 2022 | • (Morning) Business matchmaking. • Closing Ambassador's reception (TBC). • (Afternoon) Trade mission participants depart for the U.S.

The U.S. Department of Commerce will review applications and make selection decisions on a rolling basis in accordance with the Notice published at 85 FR 12259 (March 10, 2020). The applicants selected will be notified as soon as possible.

Contacts

Paul Matino, Senior International Trade Specialist, Baltimore, MD—USEAC, 410-962-4539, Paul.Matino@trade.gov.

Gemal Brangman, Director, Trade Events Task Force, Washington, DC, 202-482-3773, Gemal.Brangman@trade.gov.

Cybersecurity Business Development Mission to India

The United States Department of Commerce, International Trade Administration, is amending the Notice published at 86 FR 7705 (February 1, 2021), regarding the dates of ITA's planned Cybersecurity Business Development Mission to India, which have been modified from November 8-12, 2021, to May 23-27, 2022. The Department has been closely monitoring COVID-19 developments and has determined that postponing the mission is the best decision for the health, safety, and welfare of the participants. The new deadline for applications has been extended to August 5, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Sunday, May 22, 2022 | • Trade Mission Participants Arrive in New Delhi.
Monday, May 23, 2022 | • Welcome and Country Briefing. • One-on-One business matchmaking appointments. • Networking Lunch (No-Host). • One-on-One business matchmaking appointments. • Networking Reception at Deputy Chief of Mission residence (To Be Confirmed (TBC)).
Tuesday, May 24, 2022 | • Breakfast roundtable with Indian industry groups and associations (TBC). • Cyber Security event to share best practices and promote participants. • Networking Lunch (No-Host). • Ministry and other Indian Government Briefings and Meetings. • Transportation from Hotel to Airport Included. • Travel to Mumbai.
Wednesday, May 25, 2022 | • Welcome Briefing, Mumbai and Maharashtra State. • One-on-One business matchmaking appointments. • Networking Lunch (No-Host). • One-on-One business matchmaking appointments. • Networking Reception at Consul General residence (TBC).
Thursday, May 26, 2022 | • Breakfast roundtable with Indian industry groups and associations (TBC). • Cyber Security event to share best practices and promote participants. • Networking Lunch (No-Host). • Indian Government Briefings and Meetings. • Travel to Airport (Not Included).
Friday, May 27, 2022 | • OPTIONAL STOP—Bangalore or Hyderabad. • One-on-One business matchmaking appointments. • Networking Lunch (No-Host). • One-on-One business matchmaking appointments

The U.S. Department of Commerce will review applications and make selection decisions on a rolling basis in accordance with the Notice published at 85 FR 12259 (March 10, 2020). The applicants selected will be notified as soon as possible.

Contacts

Delia Valdivia, Senior International Trade Specialist, U.S. Commercial Service, Los Angeles, CA, 310-597-8218, delia.valdivia@trade.gov.

Gemal Brangman, Director, Trade Events Task Force, Washington, DC, 202-482-3773, Gemal.Brangman@trade.gov.

Digital Transformation Business Development Mission to the Gulf Cooperation Council Region

The United States Department of Commerce, International Trade Administration, is amending the Notice published at 86 FR 21697 (April 23, 2021), regarding the dates of ITA's planned GCC Digital Transformation Trade Mission to Saudi Arabia, Kuwait, and Qatar, which have been modified from October 24-28, 2021 to January 23-27, 2022. The Department has been closely monitoring COVID-19 developments and has determined that postponing the mission is the best decision for the health, safety, and welfare of the participants. In an effort to provide U.S. companies with revised mission dates that work for the majority of the stops, the optional UAE stop that was originally offered was dropped from the revised mission schedule due to limited resources and prior commitments made in the UAE that conflict with the revised dates. The new deadline for applications has been extended to Thursday, September 30, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Saturday, January 22 | • Travel to Riyad, Saudi Arabia. • Trade Mission Participants Arrive in Riyad, Saudi Arabia.
Sunday, January 23 | • Welcome and Saudi Arabia Country Briefing. • Ministry and other Saudi Government Briefings and meetings. • Networking Lunch Hosted by AmCham Riyadh. • One-on-One business matchmaking appointments. • Networking Reception at AMB residence (TBC).
Monday, January 24 | • One-on-One business matchmaking appointments. • Travel to Kuwait City.
Tuesday, January 25 | • Travel to Kuwait City, Kuwait. • Welcome and Kuwait Country Briefing. • Ministry and other Kuwait Government Briefings and Meetings. • Networking Lunch (No-Host). • One-on-One business matchmaking appointments. • Networking Reception at AMB residence (TBC).
Wednesday, January 26 | • One-on-One business matchmaking appointments. • Travel to Doha, Qatar. • Welcome and Qatar Country Briefing. • One-on-One business matchmaking appointments. • Networking Lunch (No-Host). • One-on-One business matchmaking appointments.
Thursday, January 27 | • One-on-One business matchmaking appointments. • Networking Lunch (No-Host). • Trade Mission concludes

The U.S. Department of Commerce will review applications and make selection decisions on a comparative basis in accordance with the Notice published at 86 FR 21697 (April 23, 2021). The applicants selected will be notified as soon as possible.

Contacts

Ludwika Alvarez, Senior International Trade Specialist, U.S. Commercial Service, International Trade Administration, U.S. Department of Commerce, San Francisco, CA, Tel: 415-517-0265, Ludwika.Alvarez@trade.gov

Tatyana Aguirre, Commercial Consul, U.S. Consulate Dhahran, U.S. Commercial Service, International Trade Administration, U.S. Department of Commerce, Mobile: +1949 557 7664, Tatyana.Aguirre@trade.gov

Office of Middle East, Drew Pederson, Desk Officer for Kuwait, Oman, and the UAE, International Trade Administration, U.S. Department of Commerce, Tel: 202-569-7479, Drew.Pederson@trade.gov

Office of Middle East, Naomi Weigler, Desk Officer for Saudi Arabia, International Trade Administration, U.S. Department of Commerce, Naomi.Wiegler@trade.gov

Trade Mission to the Caribbean Region in Conjunction With the Trade Americas-Business Opportunities in the Caribbean Region Conference

The United States Department of Commerce, International Trade Administration, is amending the Notice published at 85 FR 29928 (May 19, 2020), regarding the dates of ITA's planned Trade Mission to the Caribbean Region in conjunction with the Trade Americas—Business Opportunities in the Caribbean Region Conference, which have been modified from November 15-20, 2020, to October 24-28, 2021. The Department has been closely monitoring COVID-19 developments and has determined that postponing the mission is the best decision for the health, safety and welfare of the participants. The new deadline for applications has been extended to July 15, 2022. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Saturday, October 22, 2022 | • Travel Day/Arrival in Miami, FL. Optional Local Tour/Activities.
Sunday, October 23, 2022 | • Miami, FL. Afternoon: Registration, Briefing and U.S. Embassy Officer Consultations. Evening: Networking Reception.
Monday, October 24, 2022 | • Miami, FL. Morning: Registration and Trade Americas—U.S.-Caribbean Business Conference. Afternoon: U.S. Embassy Officer Consultations. Evening: Networking Reception.
Optional
Tuesday-Thursday, October 25-28, 2021 | • Travel day or Business-to-Business Meetings in: Option (A) Dominican Republic. Option (B) Barbados. Option (C) Guyana. Option (D) Jamaica. Option (E) Suriname. Option (F) The Bahamas. Option (H) Trinidad & Tobago (I) Haiti.

The U.S. Department of Commerce will review applications and make selection decisions on a rolling basis in accordance with the Notice published at 84 FR 68393 (December 16, 2019). The applicants selected will be notified as soon as possible.

Contacts

U.S. Trade Americas Team Contact Information

Delia Valdivia, Senior International Trade Specialist, U.S. Commercial Service—Los Angeles (West), CA, delia.valdivia@trade.gov, Tel: 310-597-8218

Diego Gattesco, Director, U.S. Commercial Service—Wheeling, WV, diego.gattesco@trade.gov, Tel: 304-243-5493

Gemal Brangman,
Senior Advisor, Trade Missions, ITA Events Management Task Force.

[FR Doc. 2021-21230 Filed 9-29-21; 8:45 am]

BILLING CODE 3510-DR-P